DEPARTMENT OF THE INTERIOR

Bureau of Land Management

[CA-310-0777-XG]

Notice of Public Meeting: Northwest California Resource Advisory Council

AGENCY: Bureau of Land Management, Interior.

ACTION: Notice of public meeting.

SUMMARY: In accordance with the Federal Land Policy and Management Act of 1976 (FLPMA), and the Federal Advisory Committee Act of 1972 (FACA), the U.S. Department of the Interior, Bureau of Land Management (BLM) Northwest California Resource Advisory Council will meet as indicated below.

DATES: The meeting will be held Tuesday and Wednesday, July 19 and 20, 2005, in Lake County, California. On July 19, members will convene at the Bureau of Land Management's Redbud Trailhead, on California State Highway 20, eight miles east of Clearlake Oaks. Members will join BLM staff members for a float trip on a portion of Cache Creek which will be the focus of land and resource management decisions in the Ukiah Resource Management Plan now under development. Members of the public are welcome on the trip, but they must provide their own transportation and water craft. On July 20, the members will convene a business meeting at 8 a.m. in the Conference Center at the Konocti Harbor Resort, 8727 Soda Bay Rd, Kelseyville, California. Time for public comment has been scheduled for 1 p.m.

FOR FURTHER INFORMATION CONTACT: BLM Ukiah Field Manager Rich Burns (707) 468-4000 or BLM Public Affairs Officer Joseph J. Fontana, (530) 252-5332.

SUPPLEMENTARY INFORMATION: The 12-member council advises the Secretary of the Interior, through the BLM, on a variety of planning and management issues associated with public land management in Northwest California. At this meeting, agenda topics will include discussion of the draft range of alternatives being developed for the Ukiah Resource Management Plan and review of an environmental assessment for the Salmon Creek Resources land exchange in the Redding Field Office. The RAC members will also hear status reports from the Arcata, Redding and Ukiah field office managers. All meetings are open to the public. Members of the public may present written comments to the council. Each formal council meeting will have time allocated for public comments. Depending on the number of persons wishing to speak, and the time available, the time for individual comments may be limited. Members of the public are welcome on field tours, but they must provide their own transportation and lunch. Individuals who plan to attend and need special assistance, such as sign language interpretation and other reasonable accommodations, should contact the BLM as provided above.

Dated: June 6, 2005.
Joseph J. Fontana,
Public Affairs Officer.

[FR Doc. 05-11768 Filed 6-14-05; 8:45 am]

BILLING CODE 4310-40-M